DEPARTMENT OF AGRICULTURE

Food Safety and Inspection Service

[Docket No. 03-019N]

Codex Alimentarius Commission: 26th Session of the Codex Alimentarius Commission (Codex)

AGENCY: Food Safety and Inspection Service, USDA.

ACTION: Notice of public meeting, request for comments.

SUMMARY: The Office of the Under Secretary for Food Safety, United States Department of Agriculture (USDA) is sponsoring a public meeting on June 12, 2003. The purpose of this meeting is to provide information and receive public comments on agenda items that will be discussed at the Twenty-sixth Session of the Codex Alimentarius Commission which will be held in Rome, Italy from June 30 to July 7, 2003. The Under Secretary recognizes the importance of providing interested parties with information about the Codex Alimentarius Commission.

DATES: The public meeting is scheduled for Thursday, June 12, 2003, from 1 p.m. to 4 p.m.

ADDRESSES: The public meeting will be held in Room 107A, Whitten Building, U.S. Department of Agriculture (Smithsonian Metro Stop), Washington, DC 20250.

If you have comments, please send an original and two copies to: FSIS Docket Clerk, Docket 03-019N, U.S. Department of Agriculture, Food Safety and Inspection Service, Room 102, Cotton Annex, 300 12th Street, SW., Washington, DC 20250-3700. All comments submitted in response to this notice will be available for public inspection in the Docket Clerk's Office between 8:30 a.m. and 4:30 p.m., Monday through Friday.

FOR FURTHER INFORMATION CONTACT: F. Edward Scarbrough, Ph.D., U.S. Manager for Codex Alimentarius, Room 4861, South Building, U.S. Department of Agriculture, 14th and Independence Avenue, SW., Washington, DC 20250; Telephone (202) 205-7760.

SUPPLEMENTARY INFORMATION:

Background

The Codex Alimentarius Commission (Codex) was established in 1962 by two United Nations organizations, the Food and Agriculture Organization and the World Health Organization. Codex is the principal international organization for encouraging fair international trade in food and protecting the health and economic interests of consumers. Through adoption of food standards, codes of practice, and other guidelines developed by its committees, and by promoting their adoption and implementation by governments, Codex seeks to ensure that the world's food supply is sound, wholesome, free from adulteration, and correctly labeled. Codex meets biennially. The Executive Committee serves as the executive body of Codex between the biennial meetings.

The Provisional Agenda for the 26th Session of the Codex Alimentarius Commission is as follows:

Part I: Introduction

1. Adoption of the Agenda

2. Report by the Chairperson on the 49th, 50th and 52nd Sessions of the Executive Committee

3. Reports of FAO/WHO Regional Coordinating Committees

Part II: Procedural Matters

4. Amendments to the Procedural Manual

(a) Amendments to the Rules of Procedure

(b) Other amendments to the Procedural Manual

Part III: Codex Standards and Related Texts

5. Draft Standards and Related Texts at Step 8 of the Procedure (including those submitted at Step 5 with a recommendation to omit Steps 6 and 7 and those submitted at Step 5 of the Accelerated Procedure)

6. Proposed Draft Standards and Related Texts at Step 5

7. Withdrawal or revocation of existing Codex Standards and Related Texts

8. Proposals for the elaboration of new Standards and Related Texts

Part IV: Policy and General Matters

9. Risk Analysis Policies of the Codex Alimentarius Commission

10. Joint FAO/WHO Evaluation of the Codex Alimentarius and other FAO and WHO Work on Food Standards

11. FAO/WHO Trust Fund for Participation of Developing Countries in Codex Standard-Setting

12. Other Matters arising from FAO and WHO

13. Matters arising from the reports of Codex Committees and Task Forces

Part V: Programme and Budgetary Matters

14. Financial and Budgetary Matters 2002/2003 and Proposed Budget 2004/2005

15. Proposed Schedule of Codex Meetings 2003-2005

Part VI: Elections and Appointments

16. Election of Chairperson and Vice-Chairpersons and Election of Members of the Executive Committee

17. Appointment of Regional Coordinators

18. Designation of Countries for Appointing the Chairpersons of Codex Committees and Task Forces

Part VII: Other Matters

19. Other Business

20. Adoption of the Report

Public Meeting

The public meeting is scheduled on Thursday, June 12th in Room 107A, Whitten Building, U.S. Department of Agriculture, 1400 Independence Avenue, SW., Washington, DC 20250. Attendees will hear brief descriptions of the issues and will have the opportunity to pose questions and offer comments.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm.

Click on the “Subscribe to the Constituent Update Listserv” link, then fill out and submit the form.

Done at Washington, DC on June 3, 2003.
F. Edward Scarbrough,
U.S. Manager for Codex Alimentarius.

[FR Doc. 03-14300 Filed 6-5-03; 8:45 am]

BILLING CODE 3410-DM-P